DEPARTMENT OF HEALTH AND HUMAN SERVICES

Centers for Disease Control and Prevention

Studies to Determine the Prevalence of a History of Traumatic Brain Injury (TBI) in an Institutionalized Population

Correction

In notice document 03-30583 beginning on page 68926 in the issue of Wednesday, December 10, 2003, make the following correction:

On page 68926, in the third column, the “Application Deadline: February 18, 2003,” should read, “February 18, 2004.”

[FR Doc. C3-30583 Filed 12-16-03; 8:45 am]

BILLING CODE 1505-01-D

DEPARTMENT OF THE TREASURY

Internal Revenue Service

Open Meeting of the Area 2 Taxpayer Advocacy Panel (Including the States of Delaware, North Carolina, South Carolina, New Jersey, Maryland, Pennsylvania, Virginia and the District of Columbia)

Correction

In notice document 03-30640 beginning on page 68970 in the issue of Wednesday, December 10, 2003 make the following correction:

On page 68971, in the first column, in the signature block, the signer's name should read “Bernard Coston”.

[FR Doc. C3-30640 Filed 12-16-03; 8:45 am]

BILLING CODE 1505-01-D